DEPARTMENT OF THE INTERIOR

Bureau of Indian Affairs

[DR.5C611.IA003213]

Draft Environmental Impact Statement for Proposed Strategies To Benefit Native Species by Reducing the Abundance of Lake Trout in Flathead Lake, Montana

AGENCY: Bureau of Indian Affairs, Interior.

ACTION: Notice of Availability.

SUMMARY: The Bureau of Indian Affairs (BIA) as the lead Federal agency, with the Confederated Salish and Kootenai Tribes of the Flathead Reservation as a Cooperating Agency, intends to file a draft environmental impact statement (DEIS) titled: Proposed Strategies to Benefit Native Species by Reducing the Abundance of Lake Trout in Flathead Lake, Montana. This notice also announces that the DEIS is now available for public review and that a public meeting will be held to solicit comments on the draft document.

DATES: The date and location of the public meeting will be published 15 days prior to the meeting in the following local newspapers: The Lake County Leader, the Daily Interlake, the Flathead Beacon, the Valley Journal, the Missoulian, and on the following Web site: www.mackdays.com. Written comments on the DEIS must arrive 45 days after EPA publishes its Notice of Availability in the Federal Register.

ADDRESSES: You may mail, email, hand carry, or telefax written comments to Mr. Les Evarts, Fisheries Program Manager, Confederated Salish and Kootenai Tribes, P.O. Box 278, Pablo, Montana 59855; fax (406) 883-2848; email lese@cskt.org. See SUPPLEMENTARY INFORMATION section of this notice for instructions on submitting comments and locations where the DEIS is available for review.

FOR FURTHER INFORMATION CONTACT: Barry Hansen, Fisheries Program, Confederated Salish and Kootenai Tribes, P.O. Box 278, Pablo, Montana 59855; telephone (406) 883-2888, ext. 7282; email barryh@cskt.org.

SUPPLEMENTARY INFORMATION: The DEIS will assess the environmental consequences of BIA approval of a proposal to benefit native fish populations in the Flathead Basin by reducing non-native lake trout abundance in Flathead Lake. Direction to manage non-native fish populations to improve conditions for native fish species comes from the Flathead Lake and River Fisheries Co-Management Plan, Bull Trout Restoration Plan, Cutthroat Memorandum of Understanding and Conservation Agreement, and Flathead Subbasin Plan: Part III, and Flathead River Subbasin Management Plan.

Stakeholders from the Flathead Basin comprise an interdisciplinary team that includes Confederated Salish and Kootenai Tribes, U.S. Fish and Wildlife Service, National Park Service, U.S. Forest Service, U.S. Geological Survey, local fishing guides and anglers, Trout Unlimited, University of Montana, and Montana Department of Natural Resources and Conservation. The team has met since 2010 to draft issues, develop alternatives, and analyze impacts.

The range of alternatives in the DEIS includes: No action (maintain the status quo of lake trout harvest from general harvest and fishing contests), reduce lake trout numbers to 25 percent of 2010 population levels, reduce lake trout numbers to 50 percent of 2010 population levels, and reduce lake trout numbers to 75 percent of 2010 population levels.

Proposed alternatives would employ a combination of tools to achieve proposed lake trout reduction targets such as general harvest, fishing contests, bounties, and targeted gill and trap netting. Proposed action alternatives would be implemented indefinitely into the future to achieve and maintain lake trout population reductions. Proposed action alternatives would include implementation and effectiveness monitoring so that harvest strategies can be adapted to future conditions, and would employ a range of methods to minimize by-catch mortality of non-target fish species. Annual lake trout harvest levels have been derived from an age-structured stochastic simulation model based on decades of local population data. Proposed annual harvests are 84,000 lake trout for 25 percent reduction, 112,000 lake trout for 50 percent reduction, and 143,000 lake trout for 75 percent reduction.

Issues addressed in the DEIS include: (1) Biological resources (lake trout, bull trout, westslope cutthroat trout, lake whitefish, yellow perch, and invertebrates including Mysis shrimp); (2) fishing opportunity; and (3) fishing economy. Also addressed are cultural resources, grizzly bears, environmental justice and Indian trust resources.

Directions for Submitting Comments: Please include your name, return address and the caption “DEIS Comments, Proposed Strategies to Benefit Native Species by Reducing the Abundance of Lake Trout in Flathead Lake, Montana.”

Locations where the DEIS is Available for Review: The DEIS may be found on the following Web sites: www.mackdays.com under the DEIS Tab and www.flatheadlakeeis.net. Hard copies of the document will be available for viewing at the office of the Confederated Salish and Kootenai Tribes, Fisheries Program located at 418 6th Ave. E, Polson, Montana. Individual paper copies of the DEIS will be provided upon payment of applicable printing expenses for the number of copies requested. To obtain a compact disk of the DEIS please provide your name and address in writing or by voice mail to Barry Hansen, Fisheries Program, Confederated Salish and Kootenai Tribes, P.O. Box 278, Pablo, Montana 59855; telephone (406) 883-2888, ext. 7282; email barryh@cskt.org.

Public Comment Availability: Before including your address, phone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR part 1500 et seq.) and the Department of the Interior Regulations (43 CFR part 46) implementing the procedural requirements of the NEPA (42 U.S.C. 4321 et seq.), and in accordance with the exercise of authority delegated to the Assistant Secretary—Indian Affairs by part 209 of the Department Manual.

Dated: June 12, 2013.
Kevin K. Washburn,
Assistant Secretary—Indian Affairs.

[FR Doc. 2013-14691 Filed 6-20-13; 8:45 am]

BILLING CODE 4310-W7-P